OFFICE OF PERSONNEL MANAGEMENT

Excepted Service; October 2022

AGENCY: Office of Personnel Management.

ACTION: Notice.

SUMMARY: This notice identifies Schedule A, B, and C appointing authorities applicable to a single agency that were established, modified, or revoked from October 1, 2022 to October 31, 2022.

FOR FURTHER INFORMATION CONTACT: Julia Alford, Senior Executive Resources Services, Senior Executive Services and Performance Management, Employee Services, 202-936-3085.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

06. Department of Defense (Schedule A, 213.3106)

(m) Defense Security Cooperation Agency

(1) Defense Security Cooperation University—Not to exceed 250 positions of President, Deputy Assistant Director, Supervisory Lecturer, Senior Lecturer, Faculty Senior Associate, Faculty Associate. Initial appointments may not exceed 3 years, and but may be extended thereafter in 1-, 2-, or 3-year increments, indefinitely.

Schedule B

06. Department of Defense (Schedule B, 213.3206)

(g) Defense Security Cooperation Agency

All faculty members with instructor and research duties at the Defense Institute of Security Assistance Management, Wright Patterson Air Force Base, Dayton, Ohio. Individual appointments under this authority will be for an initial 3-year period, which may be followed by an appointment of indefinite duration. No new appointments may be made after October 31, 2022.

Schedule C

The following Schedule C appointing authorities were approved during October 2022.

Agency name | Organization name | Position title | Authorization No. | Effective date
DEPARTMENT OF AGRICULTURE | Office of Communications | Assistant Press Secretary (2) | DA230001 DA230002 | 10/06/2022 10/06/2022
| Office of the Assistant Secretary for Administration | Confidential Assistant | DA220168 | 10/07/2022
| Office of the Secretary | Advance Associate | DA230006 | 10/24/2022
DEPARTMENT OF COMMERCE | Office of the Chief of Staff | Director of Native American Business Development | DC230006 | 10/21/2022
COUNCIL ON ENVIRONMENTAL QUALITY | Council on Environmental Quality | Public Affairs Specialist | EQ220002 | 10/04/2022
DEPARTMENT OF DEFENSE | Office of the Under Secretary of Defense (Research and Engineering) | Director, Strategic Communications | DD230003 | 10/12/2022
| Office of the Secretary of Defense | Special Assistant | DD230009 | 10/21/2022
| Office of the Assistant Secretary of Defense (Legislative Affairs) | Special Assistant to the Assistant Secretary of Defense for Legislative Affairs | DD230011 | 10/27/2022
DEPARTMENT OF EDUCATION | Office of the Under Secretary | Confidential Assistant | DB220103 | 10/07/2022
| Office of the General Counsel | Senior Counsel | DB230001 | 10/07/2022
| Office of the Secretary | Confidential Assistant, White House Initiatives Senior Advisor | DB230002 DB230003 | 10/07/2022 10/07/2022
DEPARTMENT OF ENERGY | Office of Management | International Trip Lead | DE220140 | 10/14/2022
| Office of the Secretary | Deputy White House Liaison | DE220142 | 10/14/2022
| Office of Manufacturing and Energy Supply Chains | Special Assistant | DE230007 | 10/26/2022
ENVIRONMENTAL PROTECTION AGENCY | Office of Public Affairs Office of the Associate Administrator for Congressional and Intergovernmental Relations | Writer-Editor (Speechwriter) Special Assistant | EP230003 EP230005 | 10/24/2022 10/26/2022
FEDERAL TRADE COMMISSION | Office of the Chair | Writer-Editor (Speechwriter) | FT230001 | 10/19/2022
GENERAL SERVICES ADMINISTRATION | Office of the Administrator | Senior Advisor to the Administrator (Delivery) | GS220026 | 10/07/2022
DEPARTMENT OF HEALTH AND HUMAN SERVICES | Office of the General Counsel | Senior Counsel, Oversight | DH230008 | 10/24/2022
DEPARTMENT OF HOMELAND SECURITY | United States Immigration and Customs Enforcement | Deputy Chief of Staff | DM220295 | 10/06/2022
DEPARTMENT OF HOUSING AND URBAN DEVELOPMENT | Office of Public Affairs | Assistant Press Secretary | DU230001 | 10/17/2022
DEPARTMENT OF THE INTERIOR | Secretary's Immediate Office | Speechwriter | DI220092 | 10/17/2022
| Office of the Assistant Secretary—Land and Minerals Management | Special Assistant | DI220093 | 10/17/2022
DEPARTMENT OF JUSTICE | Office of the Deputy Attorney General | Senior Counsel | DJ230013 | 10/26/2022
DEPARTMENT OF LABOR | Occupational Safety and Health Administration | Policy Advisor | DL220086 | 10/07/2022
| Office of Wage and Hour Division | Policy Advisor | DL220091 | 10/12/2022
| Office of Congressional and Intergovernmental Affairs | Senior Legislative Assistant | DL220092 | 10/12/2022
| Office of the Solicitor | Counsel | DL230002 | 10/31/2022
OFFICE OF MANAGEMENT AND BUDGET | Office of Legislative Affairs | Deputy Associate Director for Legislative Affairs | BO220034 | 10/07/2022
OFFICE OF THE UNITED STATES TRADE REPRESENTATIVE | Office of Public and Media Affairs | Writer-Editor (Speech) | TN230004 | 10/26/2022
SMALL BUSINESS ADMINISTRATION | Office of the Administrator | Special Assistant for Public Engagement | SB220045 | 10/19/2022
DEPARTMENT OF STATE | Bureau of Global Public Affairs | Special Advisor | DS220082 | 10/06/2022
| Office of the Secretary | Senior Advisor | DS230002 | 10/21/2022
| Office of the Chief of Protocol | Protocol Officer (Gifts) | DS230004 | 10/21/2022
DEPARTMENT OF TRANSPORTATION | Office of the Secretary | Director of Scheduling and Advance | DT230002 | 10/17/2022
| Office of Public Affairs | Deputy Press Secretary | DT230003 | 10/17/2022
| Office of the Assistant Secretary for Governmental Affairs | Special Assistant for Governmental Affairs | DT230006 | 10/19/2022
| Office of the Assistant Secretary for Administration | Deputy Assistant Secretary for Administration | DT230005 | 10/24/2022
| Office of Public Affairs | Digital Director | DT230007 | 10/26/2022
DEPARTMENT OF THE TREASURY | Office of the Under Secretary for Domestic Finance | Special Assistant for the Financial Stability Oversight Council | DY220150 | 10/06/2022
| Office of the Assistant Secretary (Public Affairs) | Senior Spokesperson | DY230003 | 10/07/2022
| Office of the Assistant Secretary (Tax Policy) | Senior Advisor for Climate Implementation | DY230007 | 10/17/2022

The following Schedule C appointing authorities were revoked during October 2022.

Agency name | Organization name | Position title | Request No. | Vacate date
DEPARTMENT OF COMMERCE | Minority Business Development Agency | Senior Advisor | DC220052 | 10/22/2022
| Office of the Assistant Secretary for Economic Development | Senior Advisor | DC210163 | 10/01/2022
DEPARTMENT OF ENERGY | National Nuclear Security Administration | Director of Public Affairs | DE210175 | 10/16/2022
DEPARTMENT OF HEALTH AND HUMAN SERVICES | Office of the Secretary | Policy Advisor | DH210239 | 10/22/2022
DEPARTMENT OF HOUSING AND URBAN DEVELOPMENT | Office of Congressional and Intergovernmental Relations | Deputy Assistant Secretary for Intergovernmental Relations | DU220005 | 10/08/2022
| Office of Housing | Senior Advisor | DU210089 | 10/08/2022
| Office of Public and Indian Housing | Special Assistant | DU210040 | 10/08/2022
DEPARTMENT OF TRANSPORTATION | Office of the Secretary | Director of Scheduling and Advance White House Liaison | DT210044 DT210031 | 10/22/2022 10/09/2022
GENERAL SERVICES ADMINISTRATION | Office of Strategic Communication | Director of Public Engagement | GS220010 | 10/07/2022
OFFICE OF PERSONNEL MANAGEMENT | Office of the Director | Deputy Chief of Staff | PM210055 | 10/01/2022
OFFICE OF THE SECRETARY OF DEFENSE | Office of the Under Secretary of Defense (Acquisition and Sustainment) | Special Assistant | DD220042 | 10/01/2022
| Office of the Under Secretary of Defense (Research and Engineering) | Director, Strategic Communications | DD220012 | 10/08/2022
| Washington Headquarters Services | Special Assistant | DD220126 | 10/15/2022

Authority: 5 U.S.C. 3301 and 3302; E.O. 10577, 3 CFR, 1954-1958 Comp., p. 218.

Office of Personnel Management.
Kayyonne Marston,
Federal Register Liaison.

[FR Doc. 2023-13631 Filed 6-26-23; 8:45 am]

BILLING CODE 6325-39-P